DEPARTMENT OF AGRICULTURE

Animal and Plant Health Inspection Service

9 CFR Part 94

[Docket No. 00-033-2]

Change in Disease Status of the Republic of Korea Because of Rinderpest and Foot-and-Mouth Disease

AGENCY: Animal and Plant Health Inspection Service, USDA.

ACTION: Affirmation of interim rule as final rule.

SUMMARY: We are adopting as a final rule, without change, an interim rule that removed the Republic of Korea from the list of regions declared free of rinderpest and foot-and-mouth disease. We took this action because the existence of foot-and-mouth disease was confirmed there. The interim rule prohibits or restricts the importation of any ruminant or swine and any fresh (chilled or frozen) meat and other products of ruminants or swine into the United States from the Republic of Korea. The interim rule was necessary to protect the livestock of the United States from foot-and-mouth disease.

EFFECTIVE DATE: The interim rule became effective on March 20, 2000.

FOR FURTHER INFORMATION CONTACT: Dr. Gary Colgrove, Chief Staff Veterinarian, National Center for Import & Export, VS, APHIS, 4700 River Road 38, Riverdale, MD 20737-1231; (301) 734-3276.

SUPPLEMENTARY INFORMATION:

Background

In an interim rule effective March 20, 2000, and published in the Federal Register on April 18, 2000 (65 FR 20713-20714, Docket No. 00-033-1), we amended the regulations in 9 CFR part 94 by removing the Republic of Korea from the list of countries in § 94.1 declared free of rinderpest and foot-and-mouth disease (FMD). We also removed the Republic of Korea from the list of countries in § 94.11 declared free of these diseases, but subject to certain restrictions because of their proximity to or trading relationships with FMD-affected regions. We took this action because the existence of foot-and-mouth disease was confirmed in the Republic of Korea. As a result of this action, the importation of ruminants or swine and any fresh (chilled or frozen) meat and other products of ruminants or swine into the United States from the Republic of Korea is prohibited or restricted.

Comments on the interim rule were required to be received on or before June 19, 2000. We did not receive any comments. Therefore, for the reasons given in the interim rule, we are adopting the interim rule as a final rule.

This action also affirms the information contained in the interim rule concerning Executive Orders 12866 and 12988, and the Paperwork Reduction Act.

Further, for this action, the Office of Management and Budget has waived the review process required by Executive Order 12866.

Regulatory Flexibility Act

This rule affirms an interim rule that amended the regulations in 9 CFR part 94 governing the importation of certain animals, meat, and other animal products by removing the Republic of Korea from the list of regions declared free of rinderpest and FMD. We took this action because of an outbreak of FMD in that country. The interim rule prohibits or restricts the importation of any ruminant or swine and any fresh (chilled or frozen) meat or other products of ruminants or swine into the United States from the Republic of Korea. The interim rule was necessary to protect the livestock of the United States from FMD.

The following analysis addresses the economic effect of this rule on small entities, as required by the Regulatory Flexibility Act.

FMD is a highly communicable viral disease of cattle and swine. It also affects sheep, goats, and other cloven-hooved ruminants. The disease is characterized by fever and blisterlike lesions on the tongue and lips, in the mouth, on the teats, and between the hooves. It causes severe losses in the production of meat and milk. Many affected animals recover, but the disease leaves them debilitated. FMD is present in many parts of the world, but the United States has been free of the disease since 1929.

FMD viruses can be spread by animals, people, or materials that bring the virus into physical contact with susceptible animals. Imports of animal products contaminated with the virus pose the greatest risk of introducing FMD into the United States. For example, the virus can survive in chilled, frozen, salted, cured and partially cooked meats. Because it spreads widely and rapidly and has grave economic as well as physical consequences, FMD is one of the animal diseases that livestock owners dread most.

Animals in the United States are highly susceptible to FMD viruses because they have not developed immunity to the disease and are not vaccinated against it. If an outbreak did occur in the United States, this disease could spread rapidly to all sections of the country by routine livestock movements unless detected early and eradicated immediately. If allowed to spread unchecked, it could take years and cost billions of dollars to eradicate FMD from the United States.

The livestock industry plays a significant role in the U.S. economy. There were approximately 1,115,650 cattle operations in the United States in 1998,¹ with approximately 99.7 million head of cattle valued at $60.1 billion. About 99 percent of these operations had gross receipts of less than $500,000. There were approximately 114,470 hog producers in the United States in 1998, with approximately 61.1 million hogs valued at just under $5.0 billion. More than 99 percent of these producers had gross receipts of less than $500,000. There were approximately 68,810 sheep and lamb operations in the United States in 1998, with approximately 7.8 million sheep and lambs valued at $798 million. More than 99 percent of these operations had receipts of less than $500,000. Based on the 1997 Census of Agriculture, there were approximately 57,900 goat producers in the United States in 1997. They raised 1,989,799 goats with an approximate value of $74 million. More than 99 percent of these goat producers had receipts of less than $500,000.

¹ An operation is any place having one or more cattle on hand during the year.

The U.S. livestock industry also plays an important role in international trade. U.S. competitiveness in international markets relies to a great degree upon this country's reputation for producing high quality disease-free animals and animal products. Maintaining these favorable trade conditions depends, in part, on continued aggressive efforts to prevent any threat of FMD introduction into the United States. A single outbreak of FMD, anywhere in the United States, would close our major export markets of livestock and livestock products overnight. Most exports of meat, animals and byproducts would be stopped until the disease was completely eradicated. In 1998, total earnings from U.S. exports of ruminants and swine, and fresh (chilled or frozen) meat and other products of ruminants and swine were approximately $4.5 billion. Consequently, an outbreak of FMD could result in the potential loss of export sales in the billions of dollars as well as other costs to those involved in the U.S. livestock industry.

This action will produce economic benefits by protecting against the introduction of FMD into the United States. We expect that prohibiting or restricting the importation into the United States of any ruminant or swine and any fresh (chilled or frozen) meat and other products of ruminants or swine from the Republic of Korea will have little or no effect on U.S. entities (importers, members of the public, and producers), large or small. U.S. imports of these products from the Republic of Korea are very small. For example, between 1996 and 1998, the United States did not import any reportable amounts of ruminants and swine or fresh (chilled or frozen) meat or other products of ruminants and swine from the Republic of Korea, other than $4,000 in imported dairy products in 1998. Since the Republic of Korea is not a significant source of these products for the U.S. market, restrictions on imports from the Republic of Korea should not have a noticeable effect on producer, wholesale, or consumer prices in the United States. Any shortfall of supply could easily be met from domestic or other sources. Therefore, we expect that there will be very little or no effect on U.S. entities as a result of this restriction.

Under these circumstances, the Administrator of the Animal and Plant Health Inspection Service has determined that this action will not have a significant economic impact on a substantial number of small entities.

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

Accordingly, we are adopting as a final rule, without change, the interim rule that amended 9 CFR part 94 and that was published at 65 FR 20713-20714 on April 18, 2000.

Authority: 7 U.S.C. 147a, 150ee, 161, 162, and 450; 19 U.S.C. 1306, 21 U.S.C. 111, 114a, 134a, 134b, 134c, 134f, 136, and 136a; 31 U.S.C. 9701; 42 U.S.C. 4331 and 4332; 7 CFR 2.22, 2.80, and 371.2(d).

Done in Washington, DC, this 11th day of July 2000.
Bobby R. Acord,
Acting Administrator, Animal and Plant Health Inspection Service.

[FR Doc. 00-17886 Filed 7-13-00; 8:45 am]

BILLING CODE 3410-34-P